DEPARTMENT OF TRANSPORTATION

Federal Aviation Administration

14 CFR Part 39

[Docket No. 99-SW-28-AD; Amendment 39-11691; AD 2000-08-05]

RIN 2120-AA64

Airworthiness Directives; Agusta Model A109C and A109K2 Helicopters

AGENCY: Federal Aviation Administration, DOT.

ACTION: Final rule.

SUMMARY: This amendment supersedes an existing airworthiness directive (AD), applicable to Agusta Model A109C and A109K2 helicopters, that currently requires removing the main rotor pitch control link assemblies, measuring the radial play of each upper and lower spherical rod-end bearing (bearing), and replacing any unairworthy bearing. This amendment requires replacing the pitch control link assembly with an assembly that has increased durability and wear resistance. This amendment is prompted by reports of increased helicopter vibration caused by wear of bearings on certain pitch control link assemblies. The actions specified by this AD are intended to eliminate the need for recurring bearing inspections and to prevent failure of a bearing, increased helicopter vibration, and subsequent reduced controllability of the helicopter.

DATES: Effective May 30, 2000.

The incorporation by reference of certain publications listed in the regulations is approved by the Director of the Federal Register as of May 30, 2000.

ADDRESSES: The service information referenced in this AD may be obtained from Agusta, 21017 Cascina Costa di Samarate (VA), Via Giovanni Agusta 520, telephone (0331) 229111, fax (0331) 229605-222595. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Shep Blackman, Aerospace Engineer, FAA, Rotorcraft Directorate, Rotorcraft Standards Staff, 2601 Meacham Blvd., Fort Worth, Texas 76137, telephone (817) 222-5296, fax (817) 222-5961.

SUPPLEMENTARY INFORMATION: A proposal to amend part 39 of the Federal Aviation Regulations (14 CFR part 39) by superseding AD 99-02-09, Amendment 39-11000 (64 FR 2559), which is applicable to Agusta Model A109C and A109K2 helicopters, was published in the Federal Register on January 12, 2000 (65 FR 1838). That action proposed to require replacing main rotor pitch link assemblies with assemblies that have increased durability and wear resistance.

Interested persons have been afforded an opportunity to participate in the making of this amendment. No comments were received on the proposal or the FAA's determination of the cost to the public. The FAA has determined that air safety and the public interest require the adoption of the rule as proposed.

The FAA estimates that 3 helicopters of U.S. registry will be affected by this AD, that it will take approximately 7 work hours per helicopter to accomplish the required actions, and that the average labor rate is $60 per work hour. Required parts will cost approximately $2,200 per helicopter. Based on these figures, the total cost impact of the AD on U.S. operators is estimated to be $7,860.

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11000 (64 FR 2559), and by adding a new airworthiness directive (AD), Amendment 39-11691, to read as follows:

AD 2000-08-05 Agusta S.p.A.: Amendment 39-11691. Docket No. 99-SW-28-AD. Supersedes AD 99-02-09, Amendment 39-11000, Docket No. 97-SW-55-AD.

Applicability: Model A109C and A109K2 helicopters, with main rotor pitch control link assemblies, part number (P/N) 109-0110-71-103 or -105, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required before further flight, unless accomplished previously.

To prevent failure of a main rotor pitch control link rod-end spherical bearing, increased vibration level, and subsequent reduced controllability of the helicopter, accomplish the following:

(a) Rework each main rotor pitch control link assembly, P/N 109-0110-71-103 or -105, and reidentify as pitch control link assembly, P/N 109-0110-71-107, in accordance with the Compliance Instructions of Agusta Bollettino Tecnico 109K-10 or 109-103, both dated November 22, 1995, as applicable.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits may be issued in accordance with sections 21.197 and 21.199 of the Federal Aviation Regulations (14 CFR 21.197 and 21.199) to operate the helicopter to a location where the requirements of this AD can be accomplished.

(d) The modification shall be done in accordance with the Compliance Instructions of Agusta Bollettino Tecnico 109K-10 or 109-103, both dated November 22, 1995. This incorporation by reference was approved by the Director of the Federal Register in accordance with 5 U.S.C. 552(a) and 1 CFR part 51. Copies may be obtained from Agusta, 21017 Cascina Costa di Samarate (VA), Via Giovanni Agusta 520, telephone (0331) 229111, fax (0331) 229605-222595. Copies may be inspected at the FAA, Office of the Regional Counsel, Southwest Region, 2601 Meacham Blvd., Room 663, Fort Worth, Texas; or at the Office of the Federal Register, 800 North Capitol Street, NW., suite 700, Washington, DC.

(e) This amendment becomes effective on May 30, 2000.

Note 3: The subject of this AD is addressed in Registro Aeronautico Italiano (Italy) AD's 95-332, dated December 15, 1995, and 95-334, dated December 18, 1995.

Issued in Fort Worth, Texas, on April 11, 2000.
Henry A. Armstrong,
Manager, Rotorcraft Directorate, Aircraft Certification Service.

[FR Doc. 00-9817 Filed 4-21-00; 8:45 am]

BILLING CODE 4910-13-P